DEPARTMENT OF COMMERCE

Foreign-Trade Zones Board

[Docket 70-2011]

Foreign-Trade Zone 109—County of Jefferson, NY; Application for Reorganization and Expansion Under Alternative Site Framework

An application has been submitted to the Foreign-Trade Zones (FTZ) Board (the Board) by the County of Jefferson, grantee of FTZ 109, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on November 7, 2011.

FTZ 109 was approved by the Board on November 5, 1984 (Board Order 278, 49 FR 44937, 11/13/84).

The current zone project includes the following sites: Site 1 (115 acres)—Jefferson County Industrial Park, junction of I-81 and Coffeen Street, Watertown; and, Site 2 (16 acres)—Dexter Sulphite Mill, 349 Lakeview Dr. & Stockton Avenue, Dexter.

The grantee's proposed service area under the ASF would be the County of Jefferson, New York, as described in the application. If approved, the grantee would be able to serve sites throughout the service area based on companies' needs for FTZ designation. The proposed service area is within and adjacent to the Alexandria Bay Customs and Border Protection port of entry.

The applicant is requesting authority to reorganize and expand its existing zone project to include existing Site 1 as a “magnet” site and to remove existing Site 2. The applicant has also requested that Site 1 be expanded to include an additional 95 acres. In addition, the applicant is requesting approval of the following new “magnet” sites: Proposed Site 3 (122 acres), City Central Industrial Park, Bellew Avenue South, Watertown; and, Proposed Site 4 (1,059 acres) located at the Corporate Park at Watertown International Airport, NYS Route 12F, 22529 Airport Drive, Dexter.

The ASF allows for the possible exemption of one magnet site from the “sunset” time limits that generally apply to sites under the ASF, and the applicant proposes that Site 1 be so exempted. No usage-driven sites are being requested at this time. Because the ASF only pertains to establishing or reorganizing a general-purpose zone, the application would have no impact on FTZ 109's authorized subzone.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is January 9, 2012. Rebuttal comments in response to material submitted during the foregoing period may be submitted during the subsequent 15-day period to January 24, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: November 7, 2011.
Andrew McGilvray,
Executive Secretary.

[FR Doc. 2011-29178 Filed 11-9-11; 8:45 am]

BILLING CODE P